DEPARTMENT OF THE TREASURY

Alcohol and Tobacco Tax and Trade Bureau

27 CFR Part 9

RIN: 1513-AA50

[Notice No. 14]

Proposed Dundee Hills Viticultural Area (2002R-218P)

AGENCY: Alcohol and Tobacco Tax and Trade Bureau (TTB), Treasury.

ACTION: Notice of proposed rulemaking.

SUMMARY: The Alcohol and Tobacco Tax and Trade Bureau proposes to establish the Dundee Hills viticultural area in Yamhill County, Oregon. Located entirely within the established Willamette Valley viticultural area, the proposed Dundee Hills area covers 6,490 acres, of which 1,264 are planted to grapes. We invite comments on this proposal.

DATES: We must receive written comments on or before October 14, 2003.

ADDRESSES: You may send comments to any of the following addresses:

• Chief, Regulations and Procedures Division, Alcohol and Tobacco Tax and Trade Bureau, PO Box 50221, Washington, DC 20091-0221 (Attn: Notice No. 14);

• (202) 927-8525 (facsimile);

• nprm@ttb.gov (e-mail); or

• http://www.ttb.gov (An online comment form is posted with this notice on our Web site.)

You may view copies of this notice and any comments received at http://www.ttb.gov/alcohol/rules/ or by appointment at the ATF Reference Library, 650 Massachusetts Avenue, NW., Washington, DC 20226; phone (202) 927-7890.

See the “Public Participation” section of this notice for specific instructions and requirements, and for information on how to request a public hearing.

FOR FURTHER INFORMATION CONTACT: N. A. Sutton, Specialist, Regulations and Procedures Division (Oregon), TTB, 946 NW Circle Blvd., #286, Corvallis, OR 97330; telephone (415) 271-1254.

SUPPLEMENTARY INFORMATION:

Background on Viticultural Areas

TTB Authority

The Federal Alcohol Administration Act (FAA Act) at 27 U.S.C. 205(e) requires that alcohol beverage labels provide the consumer with adequate information regarding a product's identity, while prohibiting the use of deceptive information on such labels. The FAA Act also authorizes the Secretary of the Treasury to issue regulations to carry out the Act's provisions. The Secretary has delegated this authority to the Alcohol and Tobacco Tax and Trade Bureau (TTB).

Regulations in 27 CFR part 4, Labeling and Advertising of Wine, allow the establishment of definitive viticultural areas and the use of their names as appellations of origin on wine labels and in wine advertisements. Title 27 CFR part 9, American Viticultural Areas, contains the list of approved viticultural areas.

Definition

Title 27 CFR 4.25a(e)(1) defines an American viticultural area as a delimited grape-growing region distinguishable by geographic features whose boundaries have been delineated in subpart C of part 9. The establishment of viticultural areas allows the identification of regions where a given quality, reputation, or other characteristics of the wine is essentially attributable to its geographic origin. We believe that the establishment of viticultural areas allows wineries to describe more accurately the origin of their wines to consumers and helps consumers identify the wines they purchase. Establishment of a viticultural area is neither an approval nor endorsement by TTB of the wine produced there.

Requirements

Section 4.25a(e)(2) outlines the procedure for proposing an American viticultural area. Anyone interested may petition TTB to establish a grape-growing region as a viticultural area. The petition must include—

• Evidence that the proposed viticultural area is locally and/or nationally known by the name specified in the petition;

• Historical or current evidence that the boundaries of the proposed viticultural area are as specified in the petition;

• Evidence that the proposed area's growing conditions, such as climate, soils, elevation, physical features, etc., distinguish it from surrounding areas;

• A description of the proposed viticultural area's specific boundaries, based on features found on maps approved by the United States Geological Survey (USGS); and

• A copy of the appropriate USGS-approved map(s) with the boundaries prominently marked.

Impact on Current Wine Labels

If this proposed viticultural area is established, bottlers who use brand names like the name of the viticultural area may be affected. Such bottlers must ensure that their existing products are eligible to use the name of the viticultural area as an appellation of origin. For a wine to be eligible, at least 85 percent of the grapes in the wine must have been grown within the viticultural area and must meet the other conditions listed in 27 CFR 4.25a(e)(3).

If the wine is not eligible to use the appellation, the bottler must change the brand name of that wine and obtain approval of a new label. Different rules apply to a wine in this category bearing a brand name traceable to a label approved before July 7, 1986. See 27 CFR 4.39(i) for details. In addition, if you use the viticultural area name on a wine label in a context other than an appellation of origin, the general prohibitions against misleading representation in 27 CFR part 4 apply.

Dundee Hills Petition

TTB has received a petition from Mr. Alex Sokol Blosser, secretary of the North Willamette Valley AVA Group, proposing the establishment of a new viticultural area to be called “Dundee Hills” in Yamhill County, Oregon. The petition states that within the 6,490-acre proposed viticultural area, 1,264 acres are currently planted to grapes with another 800 acres available for future vineyard use.

This proposed area is entirely within the northern portion of the established Willamette Valley viticultural area in northwestern Oregon. It is located about 28 miles southwest of Portland, Oregon, and about 40 miles inland from the Pacific Ocean near the town of Newberg. The township of Dundee straddles the proposed area's eastern border, the Yamhill River runs near its southern boundary, Millican Creek and the Trappist Abbey of Our Lady of Guadalupe anchor its west side, and the Chehalem Valley lies beyond its northern boundary.

The Dundee Hills rise above the low, flat floors of the surrounding Willamette and Chehalem Valleys. These hills have peaks generally above 700 feet in elevation, with the highest rising to 1,067 feet. The petition states that in addition to their higher elevation, the hills have warmer nighttime temperatures and less low-elevation fog and frost than the surrounding valleys.

The North Willamette Valley AVA Group originally proposed the name “Red Hills,” but upon learning of other petitioners proposing the same (or a similar) name for other viticultural areas, the Group amended its petitioned name to “Red Hills of Dundee.” After continuing concern, the Group again renamed petitioned area “Dundee Hills” to avoid confusion with other domestic and international “Red Hill” or “Red Hills” viticultural areas.

Name Evidence

The revised petition states that local residents, vintners, and others know the proposed viticultural area as the “Dundee Hills.” Noting that several area businesses use the Dundee Hills name, the petition includes references to the October 2002 Yamhill County, Oregon, Verizon Super Pages telephone book, which lists “Dundee Hills Estate,” and the “Shop Newberg” Web site, which lists “Dundee Hills Farm.”

The updated petition also includes over 30 other examples of the proposed name's use from academic journals, magazines, newspapers, and Web sites. These include Ellen C. McCornack's March 1912 Oregon Historical Society Quarterly article, “A Glimpse into Prehistoric Oregon.” The Willamette Valley was, she noted, a large, prehistoric body of water, and that “[a]cross a narrow straight from Chehalem was the island of the Dundee Hills * * *.”

An article in the fall/winter 1998 issue of Wine Press Northwest, “In with the New World,” lists several pioneer Oregon wine growers, including David Lett, who arrived in 1965 with:

a degree in viticulture from the University of California-Davis and a plan to find a cool climate suitable for planting pinot noir and other varieties from Burgundy. Lett decided on the Dundee Hills in the Willamette Valley * * *. Another early pioneer is Dick Erath of Erath Vineyards, also still producing great wine in the Dundee Hills near Newberg.

Fred Delkin, in a 2002 Oregon Magazine article, “Papa Pinot Still Preaching Gospel That Created an Industry,” also notes that, in 1966, Lett planted “Pinot Noir and its cousin, Pinot Gris, in the Dundee hills area.” A November 14, 2002, Seattle Times article, “Wine Is the Main Course this Thanksgiving Celebration,” adds, “Erath Vineyards, high in the Dundee hills, is one of the Willamette Valley's pioneer wineries.”

The 1989 Parker's Wine Buyer's Guide (page 814) explains that “Pinot Noir from the Dundee Hills, a subregion of the Willamette Valley, has a more herbaceous, bing-cherry fruitiness.” In Marne Coggan's Vineyards and Winery Management article, “Vineyard Land Values Part 2: What's Happening Beyond the North Coast” (Vol. 27, No. 4, 2001), states:

The premier Oregon wine growing area is called the Dundee Hills * * * Vacant land values in the Dundee Hills have climbed from $8,000-$10,000 to $10,000-$15,000 per acre. But those prices drop dramatically as you head south toward Salem and the Polk County area, where values are probably half of the Dundee Hills levels.

In addition, the revised petition contains an October 2001 Oregon Wine Magazine article (page 20) that describes a French-owned gravity-fed winery, Domaine Drouhin, which “clings to the heights of the Dundee Hills.” The revised petition's remaining name evidence contains similar references to Dundee Hills.

Boundary Evidence

According to the petition, the proposed Dundee Hills viticultural area's boundaries are based on a combination of geographical features, including elevation, terrain, climate, and soil, as well as the modern viticultural history of the area.

The proposed area consists of a single, continuous uplifted landmass that rises above the surrounding valley floors. The petition states that the level lands along the Willamette River and its tributary, the Yamhill River, define the Dundee Hills to the east and south. Millican Creek, a southward flowing tributary of the Yamhill River, and a smaller drainage flowing north into Chehalem Creek, which empties into the Willamette River, border the hills to the west. The petition notes that the Chehalem Valley defines the hills' northern limits.

The area's proposed boundary line is an irregular circle encompassing the Dundee Hills. The 200-foot contour line constitutes most of the proposed area's boundary line, which, the petition states, divides the base of the hills' slopes from the surrounding valley floors. On much of its western side, a roadway that varies between 200 and 300 feet in elevation is used in lieu of the 200-foot elevation line, which, the petition notes, meanders far from the logical perimeter of the proposed viticultural area.

Wine grapes planted in 1969 at Erath Vineyards produced 216 cases of Pinot noir in 1972, and, in 1971, five acres of Pinot noir grapes were planted at the Sokol Blosser vineyard, according to the petition. Statistics from the petition show the viticultural growth of the proposed Dundee Hills area:

Viticulture Growth in Dundee Hills Area
| Decade ending 1980 | Decade ending 1990 | Decade ending 2000 | As of 2002
Acreage | 299 | 577 | 1,161 | 1,264
Vineyards | 13 | 22 | 38 | 44

Growing Conditions

A combination of elevation, terrain, climate, and soil factors that contrast with the surrounding valley floors define the proposed viticultural area, according to the petition. As noted earlier, the 200-foot contour line defines most of the boundary between the proposed Dundee Hills viticultural area and the surrounding, flatter valley floors. The petition proposes to use a roadway to mark much of the area's western boundary.

Elevation and Terrain

The proposed area's elevation rises from the 200-foot contour line to the highest hill's peak of 1,067 feet. These heights contrast with the Chehalem and Willamette Valleys, which flank the north, east, and south sides of the proposed area. The petition states that the western boundary line, along Abbey and Kuehne Roads, is marked by a natural depression with drainage south to the Yamhill River via Millican Creek, while a smaller, unnamed drainage flows north into the Chehalem Valley.

The proposed Dundee Hills viticultural area's topography consists of a north-south spine with ridges and small valleys on the east, south and west sides. This hilly area is above the Willamette and Chehalem Valleys' flood plains. Numerous small streams originate in the hills' higher elevations, according to the petitioner, and the proposed area is dotted with small reservoirs. Light-duty and unimproved dirt roads service the proposed area.

The petition cites the 5th edition of the “Geology of Oregon” by Elizabeth and William Orr to explain that the geological history of the Dundee Hills area dates back 66 million years with the uplifting of the North American tectonic plate, which formed the Coast Range of mountains and the inland ridges and valleys. Lava flows, dating back 15 million years, pushed into the area from northeast Oregon, depositing Columbia River basalts and restructuring the landscape with hills and broken ridges, according to the petition.

To the west, the Coast Range, a huge uplifted landmass paralleling the Pacific Ocean coastline, provides a rain shadow for the Dundee Hills proposed viticultural area, according to the petition. The Yamhill-Carlton area is between the petitioned area and the Coast Range, to the immediate northwest and west of the Dundee Hills area. The petition notes that the Yamhill-Carlton area has small uplifted slopes that drain entirely into the Yamhill River system, while only the west side of the Dundee Hills area drains into this watershed.

To the north, the petition states that the Chehalem Mountains, with an east to west orientation, have a large footprint covering more land surface area than the proposed viticultural area. Taller than the Dundee Hills, these mountains provide some protection to the petitioned area from climatic extremes created by the Columbia River Gorge to the north.

The petition also explains that to the east and immediate south of the proposed area, the lower-elevation Willamette Valley floor has different growing conditions and is subject to standing water in the winter and spring.

The petitioner adds that the Eola Hills, 20 miles south of the proposed Dundee Hills viticultural area, have a north-south orientation, a large footprint, and a strong marine climate. The Van Duzer Corridor, a mountain gap in the Coast Range, pushes the cooling marine summer breezes inland toward the Eola Hills area and Salem, Oregon.

Climate

The petition also examines the differences in climate between the proposed Dundee Hills viticultural area and the surrounding regions. The petition states that the Dundee Hills is a foothill area protected from great climatic variations, with warmer nights and less frost than the adjacent valley floors. The mountain ranges to the west and north lessen the climatic effect of the strong Pacific Ocean winds and storms. These mountain ranges also lessen the influence of the Columbia River Gorge effect.

In examining these climatic differences, the petition notes, for example, that the proposed Dundee Hills viticultural area lies in the rain shadow of the Coast Range. The proposed viticultural area receives 30 to 45 inches of rain annually, while the Coast Range annually receives 90 to 135 inches, about three times as much rain as the proposed area. The Coast Range is also cooler in the summer and warmer in the winter, the petition comments, based on its proximity to the Pacific Ocean's marine influence. It also states that this mountain range buffers the proposed area from the Pacific Ocean's heavy rainfall pattern, windy storms, and temperature-moderating marine influence.

The Yamhill-Carlton area is located between the Coast Range and the Dundee Hills proposed viticultural area. This district averages 60 inches of annual precipitation, has 150 fewer degree-growing days, and receives a stronger marine influence, with more wind and rainfall, than the proposed Dundee Hills viticultural area, according to the petitioner.

The petition also explains that the Columbia River Gorge funnels cold air in the winter, and warm air in the summer, into the Willamette Valley area from the interior of northern Oregon. With the Chehalem Mountains standing between the Columbia River Gorge and the proposed Dundee Hills viticultural area, the petition notes that these large mountains protect the petitioned area from the climatic influences of the Columbia River Gorge weather effect.

In addition, the petitioner states that the Willamette Valley floor, to the east and south of the Dundee Hills area, has seasonal fog and frost. Cool night air drains from the higher elevation hillsides onto the valley floor, creating fall and spring fog and frost.

The petition also explains that the Eola Hills, 20 miles to the south, receive a strong cooling marine influence that pushes inland from the Pacific Ocean through the Van Duzer Corridor, an opening in the Coast Range. This marine effect loses most of its cooling benefit before reaching north to the proposed Dundee Hills area, according to the petition.

Soils

The petition relies on the “Soil Survey of the Yamhill Area, Oregon,” issued by the U.S. Department of Agriculture's Soil Conservation Service in January 1974 for its evidence regarding the proposed viticultural area's soils. The petition states that the reddish color in the proposed area's soil is derived from the Columbia River basalt lavas, including the Jory soil series that covers approximately 80 percent of the proposed area. These lava-based soils decompose quickly with the high rain levels of the northwest Oregon area and produce the Jory series reddish silt, clay, and loam soils. This soil series, found predominantly on the Dundee Hills's eastern side, is moderately fertile and well-drained, with slight to moderate erosion levels, according to the petition.

The petition adds that the west side of the proposed viticultural area, with its steeper slopes, is primarily covered by the sedimentary-derived Willakenzie soil series. This series is categorized as well drained with moderate to high erosion levels. A smaller amount of the Jory series exists on the area's western side where the Columbia River lava flows cover the sedimentary formations, the petition notes.

The petition states that, outside the petitioned area's boundaries, the soils of the Coast Range, the Yamhill-Carlton area, the Chehalem Mountains, the Willamette Valley floor, and the Eola Hills contrast with the soils found within the proposed Dundee Hills viticultural area. The petition explains that the Coast Range to the west has marine volcanic and sediment soils, with high water holding capacity silts and basalt layers sandwiched between marine sediments. The Yamhill-Carlton area, to the west and northwest, has soils derived from marine sediments and ocean floor volcanic basalt with high water holding capacity. The Chehalem Mountains, to the north and northeast, have the Columbia River basalt, ocean sedimentation, and wind-blown loess derivation soil types. The Willamette Valley floor, to the east and south, has deep, alluvial soils with high water holding capacity. The Eola Hills area, to the south, has predominantly Gelderman and Ritner basalt soil series that are characterized by their low water holding capacity, slow permeability, and moderate erosion level.

Boundary Description

The proposed Dundee Hills viticultural area covers 6,490 acres, of which 1,264 acres are planted to wine grapes. It is located entirely within the established Willamette Valley viticultural area and Yamhill County, Oregon. The area is west of the town of Newberg, approximately 28 miles southwest of Portland and 40 miles east and inland from the Pacific Ocean coastline. Portions of the townships of Dundee and Lafayette are included within the proposed area where the 200-foot contour line crosses their boundaries of incorporation.

Oregon State Route 99W, a heavy-duty road to the east and south, and State Route 240, a medium-duty road to the north, are generally outside the proposed boundary line, but occasionally cross into the proposed Dundee Hills viticultural area. See the narrative boundary description in the proposed regulation below.

Maps

The USGS maps required for determining the boundary of the proposed Dundee Hills viticultural area are: (1) Dundee Quadrangle, Oregon, 7.5 Minute Series, 1956, revised 1993; (2) Newberg Quadrangle, Oregon, 7.5 Minute Series, 1961, photorevised 1985; and (3) Dayton Quadrangle, Oregon, 7.5 Minute Series, 1957, revised 1992. The petitioner submitted the required maps, and we list them in the proposed regulation below.

Public Participation

Comments Sought

We request comments from anyone interested. Please support your comments with specific information about the proposed area's name, growing conditions, or boundaries. All comments must include your name and mailing address, reference this notice number, and be legible and written in language acceptable for public disclosure.

Although we do not acknowledge receipt, we will consider your comments if we receive them on or before the closing date. We will consider comments received after the closing date if we can. We regard all comments as originals.

Confidentiality

We do not recognize any submitted material as confidential. All comments are part of the public record and subject to disclosure. Do not enclose in your comments any material you consider confidential or inappropriate for disclosure.

Submitting Comments

You may submit comments in any of four ways:

• By mail: You may send written comments to TTB at the address listed in the ADDRESSES section.

• By facsimile: You may submit comments by facsimile transmission to 202-927-8525. Faxed comments must—

(1) Be on 8.5- by 11-inch paper;

(2) Contain a legible, written signature; and

(3) Be five or less pages long. This limitation assures electronic access to our equipment. We will not accept faxed comments that exceed five pages.

• By e-mail: You may e-mail comments to nprm@ttb.gov. Comments transmitted by electronic-mail must—

(1) Contain your e-mail address;

(2) Reference this notice number on the subject line; and

(3) Be legible when printed on 8.5- by 11-inch paper.

• By online form: We provide a comment form with the online copy of this notice on our Web site at http://www.ttb.gov/alcohol/rules/. Select “Send comments via e-mail” under this notice number.

You may also write to the Administrator before the comment closing date to ask for a public hearing. The Administrator reserves the right to determine, in light of all circumstances, whether a public hearing will be held.

Disclosure

You may view copies of the petition, the proposed regulation, the appropriate maps, and any comments received by appointment at the ATF Reference Library, 650 Massachusetts Avenue, NW., Washington, DC 20226. You may also obtain copies at 20 cents per 8.5-x 11-inch page. Contact the ATF Librarian at the above address or telephone 202-927-7890 to schedule an appointment or to request copies of comments.

For your convenience, we will post this notice and the comments received on the TTB Web site. All posted comments will show the names of commenters but not street addresses, telephone numbers, or e-mail addresses. We may also omit voluminous attachments or material that we consider unsuitable for posting. In all cases, the full comment will be available in the TTB Reference Library. To access the online copy of this notice, visit http://www.ttb.gov/alcohol/rules/ and select the “View Comments” link under this notice number to view the posted comments.

Regulatory Analyses and Notices

Paperwork Reduction Act

We propose no requirement to collect information. Therefore, the provisions of the Paperwork Reduction Act of 1995, 44 U.S.C. 3507, and its implementing regulations, 5 CFR part 1320, do not apply.

Regulatory Flexibility Act

We certify that this proposed regulation, if adopted, will not have a significant economic impact on a substantial number of small entities. This proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

The principal author of this document is N.A. Sutton (Oregon), Regulations and Procedures Division, Alcohol and Tobacco Tax and Trade Bureau.

List of Subjects in 27 CFR Part 9

Wine.

Authority and Issuance

For the reasons discussed in the preamble, we propose to amend Title 27, Code of Federal Regulations, Part 9, American Viticultural Areas, as follows:

PART 9—AMERICAN VITICULTURAL AREAS

1. The authority citation for part 9 continues to read as follows:

Authority: 27 U.S.C. 205.

2. Subpart C is amended by adding § 9.____ to read as follows:

Subpart C—Approved American Viticultural Areas

§ 9.____ Dundee Hills.

(a) The name of the viticultural area described in this section is “Dundee Hills”.

(b) Approved maps. The appropriate maps for determining the boundaries of the Dundee Hills viticultural area are three 1:24,000 Scale U.S.G.S. topography maps. They are titled:

(1) Dundee Quadrangle, Oregon, 1956, revised 1993;

(2) Newberg Quadrangle, Oregon, 1961, photorevised 1985;

(3) Dayton Quadrangle, Oregon, 1957, revised 1992.

(c) Boundaries. The Dundee Hills viticultural area is located entirely within the Willamette Valley viticultural area and Yamhill County, Oregon, near the town of Newberg.

(1) Beginning on the Dundee Quadrangle map at the intersection of the 200-foot contour line with Kuehne Road at the common boundary line of Section 47 and 48, T3S, R3W, proceed east, followed by south, along the meandering 200-foot contour line, crossing over to and back off the Newberg Quadrangle map, and then cutting diagonally southwest through Dundee township to Hess Creek, Section 34, T3S, R3W (Dundee Quadrangle); then

(2) Proceed south, followed by west and then northeast, along the meandering 200-foot contour line, twice crossing over to and back off the Dayton Quadrangle map, to its intersection with Abbey Road after the 200-foot contour line passes a quarry and crosses the two forks of Millican Creek in Section 52, T3S, R3W (Dundee Quadrangle); then

(3) Proceed generally north on Abbey Road to Kuehne Road and follow Kuehne Road northeast, returning to the point of beginning.

Signed: August 5, 2003.
Arthur J. Libertucci,
Administrator.

[FR Doc. 03-20914 Filed 8-14-03; 8:45 am]

BILLING CODE 4810-31-P